DEPARTMENT OF ENERGY

Federal Energy Regulatory Commission

[Docket No. ER00-1816-000 and ER00-1816-001]

DTE River Rouge No. 1, LLC; Notice of Issuance of Order

May 25, 2000.

On March 6, 2000, DTE River Rouge No. 1 LLC (DTE River Rouge) filed a petition requesting that the Commission authorize DTE River Rouge to engage in the sale of electric energy capacity at market-based rates and the reassign transmission capacity. In its filing, DTE River Rouge also requested certain waivers and authorizations. In particular, DTE River Rouge requested that the Commission grant blanket approval under 18 CFR Part 34 of all future issuances of securities and assumptions of liabilities by DTE River Rouge. On May 17, 2000, the Commission issued an Order Accepting Filing And Rejecting Complaint (Order), in the above-docketed proceeding.

The Commission's May 17, 2000 Order granted the request for blanket approval under Part 34, subject to the conditions found in Ordering Paragraphs (G), (H), and (J):

(G) Within 30 days of the date of this order, any person desiring to be heard or to protest the Commission's blanket approval of issuances of securities or assumptions of liabilities by DTE River Rouge should file a motion in intervene or protest with the Federal Energy Regulatory Commission, 888 First Street, N.E., Washington, D.C. 20426, in accordance with Rules 211 and 214 of the Commission's Rules of Practrice and Procedure, 18 CFR 385.211 and 385.214.

(H) Absent a request to be heard within the period set forth in Ordering Paragraph (G) above, DTE River Rouge is hereby authorized to issue securities and assume obligations and liabilities as guarantor, indorser, surety or otherwise in respect of any security of another person; provided that such issue or assumption is for some lawful object within the corporate purposes of DTE River Rouge, compatible with the public interest, and reasonably necessary or appropriate for such purposes.

(J) The Commission reserves the right to modify this order to require a further showing that neither public nor private interests will be adversely affected by continued Commission approval of DTE River Rouge's issuances of securities or assumptions of liabilities. * * *

Notice is hereby given that the deadline for filing motions to intervene or protests, as set forth above, is June 16, 2000.

Copies of the full text of the Order are available from the Commission's Public Reference Branch, 888 first Street, N.E., Washington, D.C. 20426. The Order may also be viewed on the Internet at http://www.ferc.fed.us/online/rims.htm (call 202-208-2222 for assistance).

Linwood A. Watson, Jr.,
Acting Secretary.

[FR Doc. 00-13637 Filed 5-31-00; 8:45 am]

BILLING CODE 6717-01-M